DEPARTMENT OF AGRICULTURE

Agricultural Marketing Service

7 CFR Part 1000

[Doc. No. AMS-DA-09-0062; AO-14-A73, et al.; DA-03-10]

Milk in the Northeast and Other Marketing Areas; Correction.

AGENCY: Agricultural Marketing Service, USDA.

ACTION: Proposed rule; correction.

SUMMARY: This document contains a correction to the proposed rule that was published in the June 14, 2010, Federal Register (75 FR 33534). The proposed rule inadvertently used the word “or” rather than “and” in the proposed amendment to § 1000.15 paragraph (b)(1) that provides exceptions to the fluid milk product definition. This document corrects the proposed rule by revising that section and directs that a referendum be conducted on the proposed amendments in the corrected proposed rule.

DATES: Effective Date: June 24, 2010.

FOR FURTHER INFORMATION CONTACT: William Francis, Associate Deputy Administrator, USDA/AMS/Dairy Programs, Order Formulation and Enforcement Branches, STOP 0231-Room 2971, 1400 Independence Avenue, SW., Washington, DC 20250-0231, (202) 720-6274, e-mail address: william.francis@.ams.usda.gov.

SUPPLEMENTARY INFORMATION: In FR Doc. No. AMS-DA-09-0062 appearing in the Federal Register of Monday, June 14, 2010 [75 FR 33534], the following correction is made:

§ 1000.15 [Corrected]

On page 33552, in the second column, in paragraph (b)(1) of § 1000.15, the phrase “Any product that contains less than 6.5 percent nonfat milk solids or contains less than 2.25 percent true milk protein;” is corrected to read “Any product that contains less than 6.5 percent nonfat milk solids and contains less than 2.25 percent true milk protein;”.

Further, in consideration of this correction, the Referendum Order to Determine Producer Approval; Determination of Representative Period; and Designation of Referendum Agency on page 33551 of the final decision is superseded by the following order:

Referendum Order To Determine Producer Approval; Determination of Representative Period; and Designation of Referendum Agent

It is hereby directed that a referenda be conducted and completed on or before the 30th day from the date this correction is published in the Federal Register, in accordance with the procedures for the conduct of referenda [7 CFR 900.300-311], to determine whether the issuance of the orders as amended and hereby proposed to be amended, regulating the handling of milk in the Northeast, Appalachian, Florida, Southeast, Upper Midwest, Central, Mideast, Pacific Northwest, Southwest and Arizona marketing areas is approved or favored by producers, as defined under the terms of the order, as amended and as hereby proposed to be amended, who during such representative period were engaged in the production of milk for sale within the aforesaid marketing areas.

The representative period for the conduct of such referenda is hereby determined to be June 2009.

The agents of the Secretary of Agriculture to conduct such referenda are hereby designated to be the respective market administrators of the aforesaid orders.

Authority: 7 U.S.C. 601-674 and 7253.

Dated: June 18, 2010.
David R. Shipman,
Associate Administrator, Agricultural Marketing Service.

[FR Doc. 2010-15296 Filed 6-23-10; 8:45 am]

BILLING CODE P